DEPARTMENT OF COMMERCE

International Trade Administration

Request for Comments on U.S. Clean Technologies Export Competitiveness Strategy

AGENCY: International Trade Administration, Department of Commerce.

ACTION: Request for public comments.

SUMMARY: Recognizing the vital importance of clean technologies in tackling the global climate crisis and spurring U.S. innovation and creating well-paying jobs, the Department of Commerce (DOC), in partnership with the Office of the Special Presidential Envoy for Climate (SPEC), has made it a top priority to encourage growth and ensure U.S. innovation and competitiveness in clean technologies sectors. To that end, via this general solicitation, the International Trade Administration (ITA) is requesting public comments on clean technologies export competitiveness. This stakeholder input will inform the Department's effort to develop a “U.S. Clean Technologies Export Competitiveness Strategy”, which intends to identify key issues influencing the deployment of these goods and services, highlight potential opportunities and challenges, and identify possible actions for the DOC and federal government to take in order to foster U.S. export competitiveness in clean technologies sectors.

DATES: Comments will be considered on a rolling basis but are due no later than 5 p.m. Eastern Time on October 1, 2021.

ADDRESSES: You may submit comments, identified by ITA-2021-0005, by either of the following methods:

• Online Submission (Strongly Preferred): Submit all electronic public comments via the Federal e-Rulemaking Portal. Go to https://www.regulations.gov and enter ITA-2021-0005 in the Search box. Click on the “Comment” icon, complete the required fields, and enter or attach your comments.

• Email: cleantech@trade.gov. Comments submitted by email should be machine-readable and should not be copy-protected.

Due to COVID-19 building closures, we are currently temporarily not accepting comments by mail. However, if you are unable to comment via regulations.gov, you may contact cleantech@trade.gov for instructions on submitting your comment.

Instructions: Comments sent by any other method, to any other address or individual, or received after the end of the comment period, may not be considered by ITA. All comments received are a part of the public record and will generally be posted for public viewing on www.regulations.gov without change.

Commenters should include the name of the person or organization filing the comment. All personal identifying information (for example, name, address) voluntarily submitted by the commenter may be publicly accessible. ITA will not accept anonymous comments.

For those seeking to submit confidential business information (CBI) for Government use only, please clearly mark such submissions as CBI and submit an accompanying redacted version to be made public. CBI comments can be submitted either through www.regulations.gov (strongly preferred) or by email.

FOR FURTHER INFORMATION CONTACT: Devin Horne, International Trade Administration, U.S. Department of Commerce, 1401 Constitution Avenue NW, Room 28018, Washington, DC 20230; telephone (202) 482-0775; email cleantech@trade.gov. Please direct media inquiries to ITA's Office of Public Affairs (202) 482-3809 or publicaffairs@trade.gov.

SUPPLEMENTARY INFORMATION: Background: On January 27, 2021, President Biden issued Executive Order 14008, “Tackling the Climate Crisis at Home and Abroad” (FRN Doc. 2021-02177) (E.O. 14008). E.O. 14008 puts climate considerations at the forefront of United States foreign policy and national security. The E.O. also directs agencies that engage in extensive international work to develop strategies and implementation plans for integrating climate considerations into their international work. ITA intends to integrate such considerations into its export promotion work. President Biden's Build Back Better economic recovery plan seeks to mobilize American manufacturing and innovation to ensure that the future is made in all of America by all of America's workers. By mobilizing American ingenuity to innovate and develop clean technologies products and services that can be deployed at home and exported abroad, we can ensure a just transition while mobilizing a 21st century education workforce and advancing racial equity and inclusion in America.

Scope: Clean technologies is a broad term that can encompass a range of technologies used to address a variety of environmental issues. For the purpose of this request for public comment, ITA is focused on both established and emerging technologies, and their associated goods and services, that can contribute to a transition to net-zero emissions by significantly removing or reducing the greenhouse gas (GHG) emissions in a specific application compared to existing, carbon-intensive technology in the same application. This notice serves as a general solicitation for public comment and as an initial step in improving ITA's understanding of the current technological and policy landscape.

These technologies can be organized by their ability to reduce GHG emissions in broad economic sectors identified by the United Nations Intergovernmental Panel on Climate Change as major contributors to global GHG emissions, including:

(1) Electricity and heat production (25 percent of global direct GHG emissions)

(2) Agriculture, forestry, and other land use (24 percent of global direct GHG emissions)

(3) Industry (21 percent of global direct GHG emissions)

(4) Transportation (14 percent of global direct GHG emissions)

(5) Other energy emissions not directly associated with electricity or heat production, such as fuel extraction, refining, processing, and transportation (9.6 percent of global direct GHG emissions)

(6) Buildings (6.4 percent of global direct GHG emissions)

Illustrative examples of clean technologies include but are not limited to: Power generation from civil nuclear renewable energy sources; electric vehicles and renewable fuels for road, aviation, rail, maritime shipping, or other transportation; agribusiness, including anaerobic digesters and zero-emission agricultural equipment; smart grid solutions; energy storage; hydrogen fuel cells; carbon capture, utilization, and sequestration; decarbonization technologies for energy production; low-carbon solutions for heavy industry, such as cement and steel production; energy efficient advanced manufacturing techniques; and low-carbon and energy efficient building materials.

For the purpose of this request for public comment, competitiveness entails the capacity to produce and deploy affordable, reliable, and accessible clean technologies and compete in global markets, with the overall aim of accelerating global private sector capabilities to fight the effects of climate change while also bringing benefits to the U.S. economy and people.

Request for Written Comments

Instructions: This notice serves as an initial step in improving ITA's understanding of private sector interests, concerns, and policy needs with respect to the potential for exports of clean technologies. This notice is a general solicitation for public comments and further sets forth topics for discussion and comment. ITA seeks broad input from all interested stakeholders—including U.S. industry, researchers, academia, and civil society—on the potential opportunities for and challenges to increasing U.S. clean technologies export competitiveness across multiple industry sectors. Commenters are encouraged to address any or all of the following questions and may respond in terms of clean technologies broadly, or in terms of specific technologies therein. To the extent commenters choose to respond to the specific questions asked, responses may be formatted as the commenter prefers.

Questions

Scope

1. Is there an established methodology for designating particular technologies as clean technologies or additional factors that the Government should consider for purposes of scoping this strategy?

2. What clean technologies offer the most significant immediate opportunities for U.S. exports of associated goods and services?

3. What clean technologies do not currently offer significant immediate opportunities for U.S. exports of associated goods and services but may offer such opportunities within the next five to ten years?

4. What types of services offer the most significant immediate or future opportunities for U.S. clean technologies exports? How do the needs of clean technologies services exporters differ from exporters of manufactured products?

Challenges

5. For sectors or technologies in which the United States currently has a competitive domestic industry, what are the main factors (i.e., economic, technical, regulatory, etc.) that could pose a significant risk to the U.S. industry's competitive position?

6. For sectors or technologies in which the United States does not currently have a competitive domestic industry, what are the main factors (i.e., economic, technical, regulatory, etc.) inhibiting U.S. industry competitiveness?

7. What issues related to intellectual property, standards, or measurement science pose a challenge to U.S. clean technologies export competitiveness?

8. When pursuing opportunities in foreign markets, what are the main risks or barriers (i.e., economic, financial, regulatory, technical, trade policy, etc.) facing U.S. businesses seeking to export clean technologies goods and services, whether generally or in specific foreign markets?

Solutions

9. What are the most impactful existing tools or resources offered by the Government to reduce or remove challenges, risks, and barriers in order to help position U.S. clean technologies industries for competitiveness in the global market?

10. How can existing tools or resources offered by the Government to reduce or remove challenges, risks, and barriers be improved to increase their effectiveness or make them more accessible to U.S. clean technologies companies?

11. What are the most impactful new actions the Government could take domestically to reduce or remove challenges, risks, and barriers in order to help position U.S. clean technologies industries for competitiveness in the global market?

12. What are the most impactful new actions the Government could take through engagement with foreign countries to reduce or remove challenges, risks, and barriers in order to help position U.S. clean technologies industries for competitiveness in the global market?

13. Which foreign countries or regions present the greatest market opportunities for U.S. exports of clean technologies and/or should be prioritized for engagement by the Government?

14. What objectives should the Government set for a U.S. Clean Technologies Export Competitiveness Strategy in the first 6-months, 12-months, 2-years, and 5-years, and what metrics should the Government use to measure these objectives?

Trade Policy

15. How do U.S. trade policies impact the development and deployment of clean technologies in the United States and abroad?

Other

16. Are there additional relevant issues impacting U.S. clean technologies export competitiveness not addressed by these questions, and what are the most impactful actions the Government could take to address these issues?

Dated: August 25, 2021.
Man Cho,
Deputy Director, Office of Energy and Environmental Industries.

[FR Doc. 2021-18637 Filed 8-27-21; 8:45 am]

BILLING CODE 3510-DR-P